DEPARTMENT OF HOMELAND SECURITY

Federal Emergency Management Agency

[Docket ID FEMA-2008-0010]

Board of Visitors for the National Fire Academy

AGENCY: Federal Emergency Management Agency, DHS.

ACTION: Committee Management; Notice of Open Federal Advisory Committee Meeting.

SUMMARY: The Board of Visitors for the National Fire Academy (Board) will meet via teleconference on May 7, 2015. The meeting will be open to the public.

DATES: The meeting will take place on Thursday, May 7, from 2:00 to 4:00 p.m. Eastern Daylight Time. Please note that the meeting may close early if the Board has completed its business.

ADDRESSES: Members of the public who wish to participate in the teleconference should contact Ruth MacPhail as listed in the FOR FURTHER INFORMATION CONTACT section by close of business May 5, 2015, to obtain the call-in number and access code. For information on services for individuals with disabilities or to request special assistance, contact Ruth MacPhail as soon as possible.

To facilitate public participation, we are inviting public comment on the issues to be considered by the Board as listed in the SUPPLEMENTARY INFORMATION section. Comments must be submitted in writing no later than May 5, 2015, and must be identified by Docket ID FEMA-2008-0010 and may be submitted by one of the following methods:

• Federal eRulemaking Portal: http://www.regulations.gov. Follow the instructions for submitting comments.

• Email: FEMA-RULES@fema.dhs.gov. Include the docket number in the subject line of the message.

• Mail/Hand Delivery: Ruth MacPhail, 16825 South Seton Avenue, Emmitsburg, Maryland 21727.

Instructions: All submissions received must include the words “Department of Homeland Security” and the Docket ID for this action. Comments received will be posted without alteration at http://www.regulations.gov, including any personal information provided.

Docket: For access to the docket to read background documents or comments received by the National Fire Academy Board of Visitors, go to http://www.regulations.gov, click on “Advanced Search,” then enter “FEMA-2008-0010” in the “By Docket ID” box, then select “FEMA” under “By Agency,” and then click “Search.” Prior to the meeting, meeting materials will be posted at http://www.usfa.fema.gov/nfa/about/bov.shtm by April 29, 2015.

FOR FURTHER INFORMATION CONTACT:

Alternate Designated Federal Officer: Denis G. Onieal, telephone (301) 447-1117, email Denis.Onieal@fema.dhs.gov.

Logistical Information: Ruth MacPhail, telephone (301) 447-1117, fax (301) 447-1173, and email Ruth.Macphail@fema.dhs.gov.

SUPPLEMENTARY INFORMATION: The Board of Visitors for the National Fire Academy (Board) will meet via teleconference on Thursday, May 7, 2015. The meeting will be open to the public. Notice of this meeting is given under the Federal Advisory Committee Act, 5 U.S.C. Appendix.

Purpose of the Board

The purpose of the Board is to review annually the programs of the National Fire Academy (NFA) and advise the Administrator of the Federal Emergency Management Agency (FEMA), through the United States Fire Administrator, on the operation of the NFA and any improvements therein that the Board deems appropriate. In carrying out its responsibilities, the Board examines NFA programs to determine whether these programs further the basic missions that are approved by the Administrator of FEMA, examines the physical plant of the NFA to determine the adequacy of the NFA's facilities, and examines the funding levels for NFA programs. The Board submits a written annual report through the United States Fire Administrator to the Administrator of FEMA. The report provides detailed comments and recommendations regarding the operation of the NFA.

Agenda

1. The Board will receive updates on U.S. Fire Administration data, research, and response support initiatives.

2. The Board will discuss deferred maintenance and capital improvements on the National Emergency Training Center campus and Fiscal Year 2015 Budget Request/Budget Planning.

3. The Board will review and give feedback on NFA program activities, including:

• The Managing Officer Program, a new multiyear curriculum that introduced emerging emergency services leaders to personal and professional skills in change management, risk reduction, and adaptive leadership; a progress report on this new program will be discussed;

• Adoption of the Fire and Emergency Services Higher Education Model by Foreign Countries;

• Training, Resource and Data Exchange (TRADE) policy discussion;

• Review of Professional Development Crosswalk, national standards for Fire Officer competencies and their interrelationships with State, National and Academic programs;

• Volunteer Incentive Program (VIP) policy change discussion;

• Off-Campus delivery program changes;

• Status of staff vacancies and challenges;

• Contract instructor issues and challenges;

• Incremental versus radical course material policy discussion;

• Status of Mediated Online courses;

• Curriculum and Instruction program activities;

• Interagency Agreement with the Department of Transportation with update on Traffic Incident Management Course;

• Policy and program change discussion regarding consolidation of Management and Leadership Curricula;

• Status of the National Professional Development Symposium which brings national training and education audiences together for their annual conference and support initiatives, scheduled to be held June 10-12, 2015;

• Fire and Emergency Services Higher Education (FESHE) Recognition Program Update;

• Program Decision Option budget requests to Department of Homeland Security.

There will be a 10-minute comment period after each agenda item; each speaker will be given no more than 2 minutes to speak. Please note that the public comment period may end before the time indicated, following the last call for comments. Contact Ruth MacPhail to register as a speaker.

Dated: April 15, 2015.
Denis G. Onieal,
Superintendent, National Fire Academy, United States Fire Administration, Federal Emergency Management Agency.

[FR Doc. 2015-09259 Filed 4-20-15; 8:45 am]

BILLING CODE 9111-45-P